DEPARTMENT OF THE INTERIOR

National Park Service

Notice of Inventory Completion for Native American Human Remains and Associated Funerary Objects in the Possession of the Milwaukee Public Museum, Milwaukee, WI

AGENCY: National Park Service

ACTION: Notice

Notice is hereby given in accordance with provisions of the Native American Graves Protection and Repatriation Act (NAGPRA), 43 CFR 10.9, of the completion of an inventory of human remains and associated funerary objects in the possession of the Milwaukee Public Museum, Milwaukee, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology, in consultation with representatives of the Confederated Tribes of the Colville Reservation.

At an unknown date, human remains representing two individuals were removed from an unknown site in the Okanogan Valley, WA, by Harry Brainerd. Mr. Brainerd donated the remains and associated funerary objects to the Milwaukee Public Museum in 1952. No known individuals were identified. The 158 associated funerary objects are 81 copper tube beads, 35 blue and white glass beads, 10 shell beads, 24 dentalia shell beads, 2 fragmented beaver incisors, 1 seal tooth, 1 perforated elk's tooth, 1 bone tube bead, 1 metal button, 1 copper alloy ring, and 1 rectangular piece of copper alloy with a perforation at one end.

Based on dental traits and funerary associations, these individuals have been identified as Native American. The associated funerary objects date the burial to circa 1800-1830. The geographical location of the burial is consistent with the prehistoric and historic territory of the Confederated Tribes of the Colville Reservation. Consultation evidence provided by representatives of the Confederated Tribes of the Colville Reservation indicates that the Okanogan Valley is part of the Okanogan people's traditional and historically known occupation territory, and that descendents of the Okanogan now reside on the Colville Reservation.

Based on the above-mentioned information, officials of the Milwaukee Public Museum have determined that, pursuant to 43 CFR 10.2 (d)(1), the human remains listed above represent the physical remains of two individuals of Native American ancestry. Officials of the Milwaukee Public Museum also have determined that, pursuant to 43 CFR 10.2 (d)(2), the 158 objects listed above are reasonably believed to have been placed with or near individual human remains at the time of death or later as part of the death rite or ceremony. Lastly, officials of the Milwaukee Public Museum have determined that, pursuant to 43 CFR 10.2 (e), there is a relationship of shared group identity that can be reasonably traced between these Native American human remains and associated funerary objects and the Confederated Tribes of the Colville Reservation.

This notice has been sent to officials of the Confederated Tribes of the Colville Reservation. Representatives of any other Indian tribe that believes itself to be culturally affiliated with these human remains and associated funerary objects should contact Dr. Alex Barker, Anthropology Section Head, Milwaukee Public Museum, 800 West Wells Street, Milwaukee, WI 53233, telephone (414) 278-2786, before February 26, 2001. Repatriation of the human remains and associated funerary objects to the Confederated Tribes of the Colville Reservation may begin after that date if no additional claimants come forward.

Dated: January 15, 2001.
John Robbins,
Assistant Director, Cultural Resources, Stewardship, and Partnerships.

[FR Doc. 01-2342 Filed 1-25-01; 8:45 am]

BILLING CODE 4310-70-F